Title 3—

The President

Proclamation 9253 of April 10, 2015

National Volunteer Week, 2015

By the President of the United States of America

A Proclamation

As a Nation, our greatest resource is our people. We each have the power to strengthen the fabric of our society and make the world a better place. Every day, Americans across the country realize this enormous potential through service to others and by giving back to their communities. During National Volunteer Week, we recognize those who embrace a life of active, energetic, and engaged citizenship, and we reaffirm our belief that all people have something to contribute to the American story.

This spirit of service is deeply embedded in our culture and vital to our national character. It reflects the idea that we are each our brothers' and our sisters' keepers, and it is a core part of being an American. Through service, ordinary people can make an extraordinary impact. In times of tragedy, volunteers are a source of comfort and resilience; in places of great need, they offer hope and renew our faith that a brighter day lies ahead; and in small neighborhoods and bustling cities, these dedicated individuals help build ladders of opportunity for people of all ages and backgrounds. Volunteers—often with few resources and little recognition—make enormous sacrifices to lift up the people around them as well as those they may never meet. As they do, they give new life to the values that bind us together as Americans and to the promise that those who love their country can change it.

My Administration is working to empower more Americans with opportunities to give back to their neighborhoods and to our country, and we are committed to supporting those who already do. That is why we created a task force to find new ways to expand and improve national service. And last year we launched the Employers of National Service initiative because we know those who are passionate about making a difference in their communities have the talents and experience to bolster our Nation's workforce. Through the Corporation for National and Community Service, we are investing in programs like AmeriCorps and Senior Corps, and we have expanded the scope of these opportunities—initiatives such as School Turnaround AmeriCorps, justice AmeriCorps, and STEM AmeriCorps are focusing on some of our country's most pressing needs.

The unending task of perfecting our Nation does not fall to any one person or to our Government alone—and the solutions to the problems we face do not lie beyond our reach. We must enlist all Americans in the effort to build a better future for the next generation, and we should each make service a lifelong commitment. Together, we can work to meet our Nation's challenges, not just for one day, but every day. This week, let us renew our commitment to this important cause and rededicate ourselves to the work ahead.

NOW, THEREFORE, I, BARACK OBAMA, President of the United States of America, by virtue of the authority vested in me by the Constitution and the laws of the United States, do hereby proclaim April 12 through April 18, 2015, as National Volunteer Week. I call upon all Americans to observe this week by volunteering in service projects across our country and pledging to make service a part of their daily lives. To find a service opportunity nearby, visit www.Serve.gov.

IN WITNESS WHEREOF, I have hereunto set my hand this tenth day of April, in the year of our Lord two thousand fifteen, and of the Independence of the United States of America the two hundred and thirty-ninth.

[FR Doc. 2015-08828

Filed 4-14-15; 11:15 am]

Billing code 3295-F5